DEPARTMENT OF COMMERCE

Census Bureau

Proposed Information Collection; Comment Request; Current Population Survey (CPS) Voting and Registration Supplement

AGENCY: Census Bureau, Commerce.

ACTION: Notice.

SUMMARY: The Department of Commerce, as part of its continuing effort to reduce paperwork and respondent burden, invites the general public and other Federal agencies to take this opportunity to comment on proposed and/or continuing information collections, as required by the Paperwork Reduction Act of 1995. The information to be collected is the Voting and Registration Supplement, collected in conjunction with the Current Population Survey (CPS).

DATES: To ensure consideration, written comments must be submitted on or before May 12, 2020.

ADDRESSES: Direct all written comments to Lisa A. Clement, Survey Director, Current Population and American Time Use Surveys, U.S. Census Bureau, 4600 Silver Hill Road, ADDP/CPS HQ-7H141, Washington, DC 20233 (or via the internet at PRAcomments@doc.gov). You may also submit comments, identified by Docket Number USBC-2019-0019, to the Federal e-Rulemaking Portal: http://www.regulations.gov. All comments received are part of the public record. No comments will be posted to http://www.regulations.gov for public viewing until after the comment period has closed. Comments will generally be posted without change. All Personally Identifiable Information (for example, name and address) voluntarily submitted by the commenter may be publicly accessible. Do not submit Confidential Business Information or otherwise sensitive or protected information. You may submit attachments to electronic comments in Microsoft Word, Excel, or Adobe PDF file formats.

FOR FURTHER INFORMATION CONTACT: Requests for additional information or copies of the information collection instrument(s) and instructions should be directed to Tim J. Marshall, U.S. Census Bureau, ADDP/CPS HQ-7H143, Washington, DC 20233-8400, (301) 763-3806 (or via the internet at dsd.cps@census.gov).

SUPPLEMENTARY INFORMATION:

I. Abstract

The Census Bureau plans to request clearance from the Office of Management and Budget (OMB) for the collection of data concerning the Voting and Registration Supplement to be conducted in conjunction with the November 2020 CPS. The Census Bureau sponsors the supplement questions, which have been previously collected in November biennially since 1964. The current clearance expired August 31, 2019.

This survey has provided statistical information for tracking historical trends of voter and nonvoter characteristics in each Presidential or Congressional election since 1964. The data collected from the November supplement relates demographic characteristics (age, sex, race, education, occupation, and income) to voting and nonvoting behavior. The November CPS supplement is the only federal survey that provides a comprehensive set of voter and nonvoter characteristics. Federal, state, and local election officials use these data to formulate policies relating to the voting and registration process. Academic researchers, political party committees, think tanks, and other private organizations also use the voting and registration data.

II. Method of Collection

The voting and registration information will be collected by both personal visit and telephone interviews in conjunction with the November CPS interviewing. All interviews are conducted using computer-assisted interviewing.

III. Data

OMB Control Number: 0607-0466.

Form Number(s): There are no paper forms. We conduct all interviews using computers.

Type of Review: Regular submission.

Affected Public: Households.

Estimated Number of Respondents: 52,000.

Estimated Time per Response: 1.5 minutes.

Estimated Total Annual Burden Hours: 1300.

Estimated Total Annual Cost to Public: $0 (This is not the cost of respondents' time, but the indirect costs respondents may incur for such things as purchases of specialized software or hardware needed to report, or expenditures for accounting or records maintenance services required by the collection.)

Respondent's Obligation: Voluntary.

Legal Authority: Title 13, United States Code, Section 182; and Title 29, United States Code, Section 1.

IV. Request for Comments

Comments are invited on: (a) Whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for OMB approval of this information collection; they also will become a matter of public record.

Sheleen Dumas,
Department PRA Clearance Officer, Office of the Chief Information Officer, Commerce Department.

[FR Doc. 2020-05191 Filed 3-12-20; 8:45 am]

BILLING CODE 3510-07-P